DEPARTMENT OF HOMELAND SECURITY

Coast Guard

33 CFR Part 117

[Docket No. USCG-2016-1042]

Drawbridge Operation Regulation; Inner Harbor Navigation Canal, New Orleans, LA

AGENCY: Coast Guard, DHS.

ACTION: Notice of deviation from drawbridge regulations.

SUMMARY: The Coast Guard has issued a temporary deviation from the operating schedule that governs the L & N Railroad/Almonaster Road drawbridge across the Inner Harbor Navigation Canal, mile 2.9 at New Orleans, Orleans Parish, Louisiana. The deviation is necessary to conduct repair and replacement of the lift rail assembly on the south end of the bridge. These repairs are essential for the continued safe operation of the bridge. This deviation allows the bridge to remain closed-to-navigation for ten hours with a scheduled one-hour opening to facilitate passage of vessel traffic.

DATES: This deviation is effective from 7 a.m. through 5 p.m., on December 15, 2016.

ADDRESSES: The docket for this deviation, [USCG-2016-1042] is available at http://www.regulations.gov. Type the docket number in the “SEARCH” box and click “SEARCH”. Click on Open Docket Folder on the line associated with this deviation.

FOR FURTHER INFORMATION CONTACT: If you have questions on this temporary deviation, call or email Giselle MacDonald, Bridge Administration Branch, Coast Guard, telephone (504) 671-2128, email Giselle.T.MacDonald@uscg.mil.

SUPPLEMENTARY INFORMATION: CXS Transportation, through the Port of New Orleans, requested a temporary deviation from the operating schedule of the L & N Railroad/Almonaster Road drawbridge across the Inner Harbor Navigation Canal, mile 2.9 at New Orleans, Orleans Parish, Louisiana.

The vertical clearance of the L & N Railroad/Almonaster Road bascule bridge is one foot above high water in the closed-to-navigation position and unlimited clearance in the open-to-navigation position. Navigation on the waterway consists of tugs with tows, small ships, fishing vessels, sailing vessels, and other recreational craft. In accordance with 33 CFR 117.5, the draw shall open on signal for the passage of vessels.

This deviation allows the drawbridge to remain in the closed-to-navigation position from 7 a.m. through 11 a.m. and from noon through 5 p.m. on Thursday, December 15, 2016, with the bridge scheduled to open at 11 a.m. through noon for the passage of all waiting vessels.

The bridge will not be able to open for the passage of vessels except during the one-hour scheduled opening. Alternate routes are available via the Chef Menteur Pass and the Rigolets.

In accordance with 33 CFR 117.35(e), the drawbridge must return to its regular operating schedule immediately at the end of the effective period of this temporary deviation. This deviation from the operating regulations is authorized under 33 CFR 117.35.

Dated: December 1, 2016.
David M. Frank,
Bridge Administrator, Eighth Coast Guard District.

[FR Doc. 2016-29177 Filed 12-5-16; 8:45 am]

BILLING CODE 9110-04-P